DEPARTMENT OF ENERGY

Federal Energy Regulatory Commission

Combined Notice of Filings

Take notice that the Commission has received the following Natural Gas Pipeline Rate and Refund Report filings:

Filings in Existing Proceedings

Docket Numbers: RP22-696-000.

Applicants: Trailblazer Pipeline Company LLC.

Description:Refund Report: TPC 2022 Annual L&U Cash-Out Refund Report to be effective N/A.

Filed Date:5/19/22.

Accession Number:20220519-5141.

Comment Date:5 pm ET 5/31/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2022.
Kimberly D. Bose,
Secretary.

[FR Doc. 2022-11332 Filed 5-25-22; 8:45 am]

BILLING CODE 6717-01-P